NUCLEAR REGULATORY COMMISSION

Advisory Committee on the Medical Uses of Isotopes: Meeting Notice

AGENCY: U.S. Nuclear Regulatory Commission.

ACTION: Notice of meeting.

SUMMARY: The U.S. Nuclear Regulatory Commission will convene a meeting of the Advisory Committee on the Medical Uses of Isotopes (ACMUI) on April 20 and 21, 2005. A sample of agenda items to be discussed during the public sessions includes: (1) Status of Rulemaking: Pt. 35 Training and Experience; (2) Status and Update: Redefining Medical Events; (3) Case Experience in Using I-125 Seeds as Markers; (4) FDA Radiation Dose Limits for Human Research Subjects Using Certain Radiolabeled Drugs, and (5) Establishing Guidance on Exceeding Dose Limits for Members of the Public who would serve as Caregivers to Persons undergoing Radiopharmaceutical Therapy. To review the agenda, see http://www.nrc.gov/reading-rm/doc-collections/acmui/agenda/ or contact arm@nrc.gov. Furthermore, the ACMUI will brief the Commission regarding its activities, on April 20, 2005.

Purpose: Discuss issues related to 10 CFR 35, Medical Use of Byproduct Material.

Dates and Times for Public Meetings: April 20, 2005, from 8 a.m. to 5 p.m.; and April 21, 2005, from 10 a.m. to 5 p.m.

Address for Public Meetings: Bethesda North Marriott Hotel & Conference Center, 5701 Marinelli Road, North Bethesda, MD 20852. The precise room number where the meeting will be held will be announced in reader boards located throughout the hotel.

Date and Time for Closed Session Meeting: April 21, 2005, from 8 a.m. to 10 a.m. This session will be closed so that NRC staff can brief the ACMUI on sensitive information regarding protective security measures, and so that the ACMUI can discuss internal personnel matters.

Address for Closed Session Meeting: Bethesda North Marriott Hotel & Conference Center, 5701 Marinelli Road, North Bethesda, MD 20852. The precise room number where the meeting will be held will be announced in reader boards located throughout the hotel.

Date and Time for Commission Briefing: April 20, 2005, from 9:30 a.m. to 11:30 a.m.

Address for Commission Briefing: U.S. Nuclear Regulatory Commission, One White Flint North Building, Commissioners' Hearing Room 1G16, 11555 Rockville Pike, Rockville, MD, 20852-2738.

FOR FURTHER INFORMATION CONTACT: Angela R. McIntosh, telephone (301) 415-5030; e-mail arm@nrc.gov of the Office of Nuclear Material Safety and Safeguards, U.S. Nuclear Regulatory Commission, Washington, DC 20555-0001.

Conduct of the Meeting

Leon S. Malmud, M.D., will chair the meeting. Dr. Malmud will conduct the meeting in a manner that will facilitate the orderly conduct of business. The following procedures apply to public participation in the meeting:

1. Persons who wish to provide a written statement should submit a reproducible copy to Angela R. McIntosh, U.S. Nuclear Regulatory Commission, Two White Flint North, Mail Stop T8F5, 11545 Rockville Pike, Rockville, MD 20852-2738. Submittals must be postmarked by April 1, 2005, and must pertain to the topics on the agenda for the meeting.

2. Questions from members of the public will be permitted during the meeting, at the discretion of the Chairman.

3. The transcript and written comments will be available for inspection on NRC's Web site (http://www.nrc.gov) and at the NRC Public Document Room, 11555 Rockville Pike, Rockville, MD 20852-2738, telephone (800) 397-4209, on or about July 20, 2005. This meeting will be held in accordance with the Atomic Energy Act of 1954, as amended (primarily Section 161a); the Federal Advisory Committee Act (5 U.S.C. App); and the Commission's regulations in Title 10, U.S. Code of Federal Regulations, part 7.

4. Attendees are requested to notify Angela R. McIntosh at (301) 415-5030 of their planned attendance if special services, such as for the hearing impaired, are necessary.

Dated at Rockville, Maryland, this 22nd day of February, 2005.
For the Nuclear Regulatory Commission.
Andrew L. Bates,
Advisory Committee Management Officer.

[FR Doc. 05-3734 Filed 2-25-05; 8:45 am]

BILLING CODE 7590-01-P